COMMODITY FUTURES TRADING COMMISSION

Agency Information Collection Activities: Notice of Intent To Renew Collection 3038-0007, Regulation of Domestic Exchange-Traded Options

AGENCY: Commodity Futures Trading Commission.

ACTION: Notice.

SUMMARY: The Commodity Futures Trading Commission (CFTC or Commission) is announcing an opportunity for public comment on the proposed extension of a collection of certain information by the agency. Under the Paperwork Reduction Act of 1995 (PRA), Federal agencies are required to publish notice in the Federal Register concerning each proposed collection of information, including each proposed extension of an existing collection of information, and to allow 60 days for public comment in response to the notice. This notice solicits comments on rules related to risk disclosure and promotional material concerning certain domestic exchange-traded commodity options.

DATES: Comments must be submitted on or before October 11, 2024.

ADDRESSES: You may submit comments, identified by “OMB Control No. 3038-0007,” by any of the following methods:

• The CFTC website, at https://comments.cftc.gov/. Follow the instructions for submitting comments through the website.

• Mail: Christopher Kirkpatrick, Secretary of the Commission, Commodity Futures Trading Commission, Three Lafayette Centre, 1155 21st Street NW, Washington, DC 20581.

• Delivery/Courier: Same as Mail above.

Please submit your comments using only one method and identify that it is for the extension/renewal of Collection Number 3038-0007.

FOR FURTHER INFORMATION CONTACT: Catherine Brescia, Attorney Advisor, Market Participants Division, Commodity Futures Trading Commission, telephone: (202) 418-6236; email: cbrescia@cftc.gov, and refer to OMB Control No. 3038-0007.

SUPPLEMENTARY INFORMATION: Under the PRA, 44 U.S.C. 3501 et seq., Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed extension of an existing collection of information listed below. An agency may not conduct or sponsor, and a person is not required to respond to a collection of information unless it displays a currently valid OMB control number.¹

¹ 46 FR 63035 (Dec. 30, 1981).

Title: Rules Relating to Regulation of Domestic Exchange-Traded Options, OMB Control Number 3038-0007. This is a request for extension of a currently approved collection.

Abstract: Commission Regulations 33.7 and 33.8,² respectively, require futures commission merchants (FCMs) and introducing brokers (IBs): (1) to provide retail (i.e., non-eligible contract participant) ³ customers with, and retain, standard risk disclosure statements concerning the risk of trading certain domestic exchange-traded commodity options; ⁴ and (2) to retain all related promotional material and the source of authority for information contained therein. These requirements help assure that these customers are not fraudulently induced to invest in these commodity options by persons who misrepresent the risks of such transactions. The recordkeeping requirements assist the Commission and the National Futures Association (NFA) in verifying registrants' compliance with their disclosure obligations and ensuring that related promotional material is not fraudulent or misleading.

² 17 CFR 33.7 and 33.8.

³ Commission Regulation 33.7 does not require FCMs or IBs to provide the disclosure or obtain a related acknowledgment from institutional customers. See 17 CFR 33.7(a)(1). Commission Regulation 1.3 provides that “institutional customer” has the same meaning as “eligible contract participant” (“ECP”) as defined in section 1a(18) of the Commodity Exchange Act (“CEA”). Under the CEA, an ECP includes, for example, a financial institution, an insurance company, and a corporation with $10 million in assets.

⁴ See Commission Regulation 33.2(b). 17 CFR 33.2(b) (providing that Part 33 of the Commission's Regulations applies to commodity option transactions that are options on contracts of sale of a commodity for future delivery except for commodity option transactions that are options on contracts of sale of a commodity for future delivery conducted or executed on or subject to the rules of a foreign board of trade).

This information collection contains the third-party disclosure and recordkeeping requirements needed to ensure regulatory compliance by FCMs and IBs with these Commission Regulations.

With respect to the above collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

All comments must be submitted in English, or if not, accompanied by an English translation. Comments will be posted as received to https://www.cftc.gov. You should submit only information that you wish to make available publicly. If you wish the Commission to consider information that you believe is exempt from disclosure under the Freedom of Information Act, a petition for confidential treatment of the exempt information may be submitted according to the procedures established in section 145.9 of the Commission's regulations.⁵

⁵ 17 CFR 145.9, 74 FR 17395 (Apr. 15, 2009).

The Commission reserves the right, but shall have no obligation to, review, pre-screen, filter, redact, refuse or remove any or all of your submission from https://www.cftc.gov that it may deem to be inappropriate for publication, such as obscene language. All submissions that have been redacted or removed that contain comments on the merits of the Information Collection Requirement will be retained in the public comment file and will be considered as required under the Administrative Procedure Act and other applicable laws, and may be accessible under the Freedom of Information Act.

Burden Statement: The Commission estimates the burden of this collection of information as follows:

Estimated Number of Annual Respondents: 983.

Estimated Average Annual Burden Hours per Respondent: 34.2.

Estimated Total Annual Burden Hours: 33,619.

Frequency of Collection: On occasion.

There are no capital costs or operating and maintenance costs associated with this collection.

(Authority: 44 U.S.C. 3501 et seq.)

Dated: August 6, 2024.
Robert Sidman,
Deputy Secretary of the Commission.

[FR Doc. 2024-17792 Filed 8-9-24; 8:45 am]

BILLING CODE 6351-01-P